FEDERAL COMMUNICATIONS COMMISSION

[Report No. 2745]

Petitions for Reconsideration of Action in Rulemaking Proceeding

December 1, 2005.

Petitions for Reconsideration have been filed in the Commission's Rulemaking proceeding listed in this Public Notice and published pursuant to 47 CFR 1.429(e). The full text of these documents is available for viewing and copying in Room CY-B402, 445 12th Street, SW., Washington, DC or may be purchased from the Commission's copy contractor, Best Copy and Printing, Inc. (BCPI) (1-800-378-3160). Oppositions to these petitions must be filed by December 29, 2005. See § 1.4(b)(1) of the Commission's rules (47 CFR 1.4(b)(1)). Replies to an opposition must be filed within 10 days after the time for filing oppositions have expired.

Subject: In the Matters of Appropriate Framework for Broadband Access to the Internet over Wireline Facilities (CC Docket No. 02-33).

Universal Service Obligations of Broadband Providers (CC Docket No. 02-33).

Review of Regulatory Requirements for Incumbent LEC Broadband Telecommunications Services (CC Docket No. 01-337).

Computer III Further Remand Proceedings; Bell Operating Company Provision of Enhanced Services; 1998 Biennial Regulatory Review—Review of Computer III and ONA Safeguards and Requirements (CC Docket Nos. 95-20, 98-10).

Conditional Petition of the Verizon Telephone Companies for Forbearance under 47 U.S.C. 160(c) with Regard to Broadband Services Provided Via Fiber to the Premises; Petition of the Verizon Telephone Companies for Declaratory Ruling or, Alternatively, for Interim Waiver with Regard to Broadband Services Provided Via Fiber to the Premises (WC Docket No. 04-242).

Consumer Protection in the Broadband Era (WC Docket No. 05-271).

Number of Petitions Filed: 2.

Marlene H. Dortch,
Secretary.

[FR Doc. 05-23864 Filed 12-13-05; 8:45 am]

BILLING CODE 6712-01-P